DEPARTMENT OF DEFENSE

48 CFR Part 205

[DFARS Case 2004-D025]

Defense Federal Acquisition Regulation Supplement; Provision of Information to Cooperative Agreement Holders

AGENCY: Department of Defense (DoD).

ACTION: Final rule.

SUMMARY: DoD has adopted as final, without change, an interim rule amending the Defense Federal Acquisition Regulation Supplement (DFARS) to implement Section 816 of the National Defense Authorization Act for Fiscal Year 2005. Section 816 increased, from $500,000 to $1,000,000, the threshold at which a DoD contract must include a requirement for the contractor to provide to cooperative agreement holders, upon their request, a list of the contractor's employees who are responsible for entering into subcontracts.

DATES: Effective September 16, 2005.

FOR FURTHER INFORMATION CONTACT: Ms. Robin Schulze, Defense Acquisition Regulations Council, OUSD(AT&L)DPAP(DAR), IMD 3C132, 3062 Defense Pentagon, Washington, DC 20301-3062. Telephone (703) 602-0326; facsimile (703) 602-0350. Please cite DFARS Case 2004-D025.

SUPPLEMENTARY INFORMATION:

A. Background

DoD published an interim rule at 70 FR 8536 on February 22, 2005, to implement Section 816 of the National Defense Authorization Act for Fiscal Year 2005 (Pub. L. 108-375). Section 816 amended 10 U.S.C. 2416(d) to increase, from $500,000 to $1,000,000, the threshold at which a DoD contract must include a requirement for the contractor to provide to cooperative agreement holders, upon their request, a list of the contractor's employees who are responsible for entering into subcontracts. The interim rule amended the prescription for use of the clause at DFARS 252.205-7000, Provision of Information to Cooperative Agreement Holders, to reflect the new dollar threshold.

DoD received no comments on the interim rule. Therefore, DoD has adopted the interim rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq. While the rule reduces administrative burdens for contractors, the economic impact is not expected to be substantial.

C. Paperwork Reduction Act

The information collection requirements of the clause at DFARS 252.205-7000, Provision of Information to Cooperative Agreement Holders, have been approved by the Office of Management and Budget, under Control Number 0704-0286, for use through September 30, 2007.

List of Subjects in 48 CFR Part 205

Government procurement.

Michele P. Peterson,
Editor, Defense Acquisition Regulations System.

Interim Rule Adopted as Final Without Change

Accordingly, the interim rule amending 48 CFR Part 205, which was published at 70 FR 8536 on February 22, 2005, is adopted as a final rule without change.

[FR Doc. 05-18476 Filed 9-15-05; 8:45 am]

BILLING CODE 5001-08-P